DEPARTMENT OF LABOR

Employment and Training Administration

Grants for Small Faith-Based and Community-Based Non-Profit Organizations SGA/DFA 03-105

AGENCY: Employment and Training Administration (ETA), Labor.

ACTION: Notice of availability of funds and solicitation for grant applications (SGA). This notice contains all of the necessary information and forms needed to apply for grant funding.

SUMMARY: The Employment and Training Administration (ETA), U.S. Department of Labor (DOL) announces the availability of $250,000 to award grants to eligible “grass-roots” organizations with the ability to connect to the local One-Stop delivery system. The term “grassroots” is defined under the Eligibility Criteria.

The selected grantees will be expected to achieve the following objectives:

• Apply the grant resources to meet defined community needs through provision of a variety of workforce services to specific populations and/or through the provision of particular supportive services not currently provided through the One-Stop delivery system;

• Expand the access of faith-based and community-based organizations' clients and customers to the training, job and career services offered by the local One-Stops;

• Thoroughly document the impact and outcomes of these grant investments through quarterly and annual reporting; and,

• Establish methods and mechanisms to ensure sustainability of these partnerships and participation levels beyond the life of the grant.

DATES: Applications will be accepted commencing on April 4, 2003. The closing date for receipt of applications under this announcement is May 9, 2003. Applications must be received by 4 p.m. (e.t.) at the address below: no exceptions to the mailing and hand-delivery conditions set forth in this notice will be granted. Applications that do not meet the conditions set forth in this notice will not be honored. Telefacsimile (FAX) applications will not be honored.

ADDRESSES: Applications must be mailed to: U.S. Department of Labor, Employment and Training Administration, Division of Federal Assistance, Attention: Linda Forman, SGA/DFA 03-105, 200 Constitution Avenue, NW., Room S-4203, Washington, DC 20210. Telefacsimile (FAX) applications will not be accepted. Applicants are advised that mail in the Washington area may be delayed due to mail decontamination procedures.

FOR FURTHER INFORMATION CONTACT: Linda Forman, Grants Management Specialist, Division of Federal Assistance, Telephone (202) 693-3301 (this is not a toll free-number). You must specifically ask for Linda Forman. Questions can also be faxed to Linda Forman, Telephone (202) 693-2879, please include the SGA/DFA 03-105, a contact name, fax and phone numbers. This announcement will be also published on the Employment and Training Administration (ETA) Web page at http://www.doleta.gov/usworkforce. This Web page will also provide responses to questions that are raised by applicants during the period of grant application preparation. Award notifications will also be announced on this Web page.

SUPPLEMENTARY INFORMATION:

Part I. Delivery of Applications

1. Late Applications. Any application received after the exact date and time specified for receipt at the office designated in this notice will not be considered, unless it is received before awards are made and it:

• Was sent by U.S. Postal Service registered or certified mail not later than May 9, 2003; or

• Was sent by U.S. Postal Service Express Mail Next Day Service, Post Office to addressee, not later than 5 p.m. at the place of mailing two working days before May 9, 2003. The term “working days” excludes weekends and U.S. Federal holidays. “Post-marked” means a printed, stamped or otherwise placed impression (exclusive of a postage meter machine impression) that is readily identifiable, without further action, as having been supplied or affixed on the date of mailing by an employee of the U.S. Postal Service.

2. Withdrawal of Applications. Applications may be withdrawn by written notice or telegram (including mailgram) received at any time before an award is made. Applications may be withdrawn in person by the applicant or by an authorized representative thereof, if the representative's identity is made known and the representative signs a receipt for the proposal.

3. Hand Delivered Proposals. It is preferred that applications be mailed at least five days before the closing date. To be considered for funding, hand-delivered applications must be received at the designated address by 4 p.m., (e.t.) May 9, 2003. All overnight mail will be considered to be hand delivered and must be received at the designated place by the specified closing date and time. Telegraphed, e-mailed and/or faxed proposals will not be honored. Failure to adhere to the above instructions will be a basis for determination of non-responsive.

Part II. Authorities

These grants are made under the following authorities:

• The Workforce Investment Act of 1998 (WIA or the Act) (Pub. L. 105-220, 29 U.S.C. 2801 et seq.)

• The WIA final rule, 20 CFR parts 652, 660-671 (65 FR 49294 (August 11, 2000));

• Executive Order 13198; “Rallying the Armies of Compassion”;

• Training and Employment Guidance Letter 17-01 (“Incorporating and Utilizing Grassroots, Community-Based Organizations Including Faith-Based Organizations in Workforce Investment Activities and Programs”);

• Executive Order 13279; “Equal Protection of the Laws for Faith-Based and Community Organizations.”

Part III. Background

The Workforce Investment Act of 1998 (WIA) established a comprehensive reform of existing Federal job training programs with amendments impacting service delivery under the Wagner-Peyser Act, Adult Education and Literacy Act, and the Rehabilitation Act. A number of other Federal programs are also identified as required partners in the One-Stop delivery system to provide comprehensive services for all Americans to access the information and resources available that can help in the achievement of their career goals. The intention of the One-Stop system is to establish a network of programs and providers in co-located and integrated settings that are accessible for individuals and businesses alike in approximately 600 workforce investment areas established throughout the nation. There are currently over 1,900 comprehensive Centers and over 1,600 affiliated Centers across the United States.

WIA established State and Local Workforce Investment Boards focused on strategic planning, policy development, and oversight of the workforce investment system, and accorded significant authority to the nation's Governors and local chief elected officials to further implement innovative and comprehensive delivery systems. The vision, goals and objectives for workforce development under the WIA decentralized system are fully described in the State strategic plan required under section 112 of the legislation. This State strategic workforce investment plan—and the operational experience gained by all the partners to date in implementing the WIA-instituted reforms—help identify the important “unmet needs” and latent opportunities to expand access to One-Stop by all the population segments within the local labor market.

Engagement of Faith-Based and Community Organizations Under the Workforce Investment Act

On January 29, 2001, President George W. Bush issued Executive Order 13198, creating the Office for Faith-Based and Community Initiatives in the White House and centers in the departments of Labor, Health and Human Services (HHS), Housing and Urban Development (HUD), Education (ED), Justice (DOJ). President Bush charged the Cabinet centers with identifying statutory, regulatory, and bureaucratic barriers that stand in the way of effective faith-based and community initiatives, and to ensure, consistent with the law, that these organizations have equal opportunity to compete for federal funding and other support.

In early 2002, the Department's Center for Faith-Based and Community Initiatives (CFBCI) and ETA developed and issued Solicitations for Grant Applications (SGAs) to engage intermediary and grass-roots organizations in our workforce system-building. These grants were designed to involve the faith-based and community-based organizations in service delivery, strengthen their existing partnership with the local One-Stop delivery system, while providing additional points of entry for customers into that system.

These 2002 grants embodied the Department's principal strategy for implementing the Executive Order by creating new avenues through which qualified organizations can more fully participate under the Workforce Investment Act while applying their particular strengths and assets in service provision to our customers. These grants also proceeded from an ETA-CFBCI mutual premise: That the involvement of community-based organizations and faith-based organizations can both complement and supplement the efforts of local workforce investment systems in providing universal access and serving the training, job and career-support needs of many of our citizens.

Both ETA and CFBCI are committed to bringing new Intermediary and grass-roots organizations to workforce system-building through the issuance of a new solicitation in 2003. This new solicitation draws on “lessons learned” in 2002 while introducing several “promising practices” introduced by other ETA grantees. The new solicitation also places significant emphasis on performance outcomes—documenting and quantifying the additional value the Intermediary and its sub-grantees bring to the One-Stop delivery system in the community.

Through this competition, ETA seeks to ensure that an important Workforce Investment Act tenet—universal access to the programs and services offered under WIA—is further rooted in the customer-responsive delivery systems already established by the Governors, local elected officials and local Workforce Investment Boards. ETA also reaffirms its continuing commitment to those customer-focused reforms instituted by State and local governments which help Americans access the tools they need to manage their careers through information and high quality services, and to help U.S. companies find skilled workers.

Faith-based and community-based organizations present strong credentials for full partnership in our mutual system-building endeavors. Faith-based and community-based organizations are trusted institutions within our poorest neighborhoods. Faith-based and community-based organizations are home to a large number of volunteers who bring not only the transformational power of personal relationships to the provision of social service but also a sustained allegiance to the well-being and self-sufficiency of the participants they serve. Through their daily work and specific programs, these organizations strive to achieve some common purposes shared with government—reduction of welfare dependency, attainment of occupational skills, entry and retention of all our citizens in good-paying jobs. Through this solicitation, ETA and CFBCI strive to leverage these programs, resources and committed staff into the workforce investment strategies already embodied in State and local strategic plans.

Application of the Establishment Clause of the First Amendment of the United States Constitution

The Establishment Clause of the First Amendment of the United States Constitution prohibits the government from directly funding religious activity.* These grants may not be used for instruction in religion or sacred literature, worship, prayer, proselytizing or other inherently religious practices. The services provided under these grants must be secular and non-ideological. Neutral, secular criteria that neither favor nor disfavor religion must be employed in their selection of sub-grantees. In addition, under the WIA and DOL regulations implementing the Workforce Investment Act, a recipient may not train a participant in religious activities, or permit participants to construct, operate, or maintain any part of a facility that is primarily used or devoted to religious instruction or worship. Under WIA, “no individual shall be excluded from participation in, denied the benefits of, subjected to discrimination under, or denied employment in the administration of or in connection with, any such program or activity because of race, color, religion, sex (except as otherwise permitted under Title IX of the Education Amendments of 1972), national origin, age, disability, or political affiliation or belief.”

* The term “direct” funding is used to describe funds that are provided “directly” by a governmental entity or an intermediate organization with the same duties as a governmental entity, as opposed to funds that an organization receives as the result of the genuine and independent private choice of a beneficiary. In other contexts, the term “direct” funding may be used to refer to those funds that an organization receives directly from the Federal government (also known as “discretionary” funding), as opposed to funding that it receives from a State or local government (also known as “indirect” or “block grant” funding). In this SGA, the term “direct” has the former meaning.

Part IV. Funding Availability and Period of Performance

ETA has identified $250,000 from the FY 2002 appropriation for One-Stop/America's Labor Market Information System. The agency expects to award 10-12 grants. The grant amount for each grass-roots organization is expected to range between $20,000 and $25,000. The period of performance is one year, beginning July 1, 2003 and ending on June 30, 2004.

Part V. Eligible Applicants

For purposes of this announcement, eligible grassroots organizations must be non-profits which:

1. Have social services as a major part of their mission;

2. Are headquartered in the local community to which they provide these services;

3. Have a total annual operating budget of $300,000 or less, or

4. Have 6 or fewer full-time equivalent employees.

Note: For purposes of this announcement local affiliates of national social service organizations are not considered “grassroots” and are not be eligible to apply.

Part VI. Government Requirements/Statement of Work

Applicants must submit one copy with an original signature and two additional copies of their proposal. The Statement of Work must be limited to 5 pages. The only attachments permitted will be agreements with or letters of support from local Workforce Investment Boards and/or local One-Stop operators. The application must be double-spaced, and on single-sided, numbered pages. A font size of at least twelve (12) pitch is required with one-inch margins (top, bottom and sides.)

There are three required sections:

• Section I—Application for Federal Assistance (SF 424A)

• Section II—Budget Information (SF 424B)

• Section III—Statement of Work

Section I—Application for Federal Assistance

The SF-424A is included in the announcement as Attachment A. It must be signed by a representative authorized by the governing body of the applicant to enter into grant agreement.

Section II—Budget Information

The SF-424B is included in the announcement as Attachment B.

Note: Except as specifically provided, DOL/ETA acceptance of a proposal and an award of federal funds to sponsor any program(s) does not provide a waiver of any grant requirement and/or procedures. For example, the OMB circulars require that an entity's procurement procedures must require that all procurement transactions must be conducted, as practical, to provide open and free competition. If a proposal identifies a specific entity to provide the services, the DOL/ETA's award does not provide the justification or basis to sole-source the procurement, i.e., avoid competition.

Section III—Statement of Work (Not To Exceed 5 Pages)

The Statement of Work sets forth a strategic plan for the use of awarded funds and establishes measurable goals for increasing organizational participation in the One-Stop service delivery system to more fully serve the clientele and members of community-based and faith-based organizations. Below are the required elements of the Statement of Work and the rating criteria that reviewers will use to evaluate the proposal.

1. Organizational History and Description of Community Need (15 Points)

• Describe the structure of the applicant's organization. Describe the history of the organization in meeting community needs including a brief listing of services provided.

• Describe the overall community need, i.e., how will these resources allow your organization to address a need which the One-Stop Career Center is not fully addressing? (This description should include coverage of population(s) to be served and the services to be provided. Populations could include ex-offenders, immigrants, limited English-speaking, homeless and individuals with disabilities. Services can include soft-skills training, pre- and post-job placement mentoring, translation services, and job coaching. Other populations and services can be identified.)

Rating Criteria

• Does the description reflect a clear understanding of a community need? Does the description of need reflect an understanding of the resources provided by the One-Stop delivery system in the community?

2. Description of Partnerships and Linkages (20 Points)

• Please describe your plans to work as partners with the One-Stop Delivery system to help the target population enter and succeed in the Workforce. If you have not previously worked with the One-Stop, please describe actions you have taken to develop the relationships as you developed this grant. If you have worked with the One-Stop, please describe what actions you have taken to further develop your relationship.

• Please describe the relationships you have with other non-profit organizations who provide similar or complementary services and how you will leverage pre-existing relationships and partnerships to help achieve your goals for the population you will service and how you will avoid duplication.

Rating Criteria

• Does the narrative describe an approach and process by which the organization will successfully partner with the One-Stop delivery system to address the unmet need?

• Does the applicant present evidence of discussions with the One-Stop delivery system (e.g., a signed letter from the Local Board or other One-Stop delivery system principals)?

• Does the organization's history of collaboration with other non-profits in the community support the conclusion that these grant activities will be successful?

3. Presentation of Strategic Plan, Goals, and Timeline (50 Points)

• The applicant should describe the methodology for providing services, including any training curriculum or other tools to be used. Describe the staff/volunteer positions that will be providing services under this grant.

• The applicant must present a timeline of major, measurable tasks and activities to be undertaken. The timeline should include how many people will receive services and/or participate and complete classes detailed in the training curriculum.

• The applicant should also describe specifically measurable outcomes and other goals, which will be achieved by these grant activities. Measurable outcomes can include how many individuals will enter employment or retain employment or complete an educational certificate because they have received services provided under this grant in conjunction with services provided by the One-Stop Career Centers and other partners.

Rating Criteria

• Do the activities and tasks presented on the timeline appear to be achievable with the likelihood of project success given available resources?

• Does the applicant provide tangible outcome measures and goals for success for both the organization and Department to gauge the impact of the activities on meeting the community need? Do these goals include tracking employment outcomes and/or retention outcomes for those served?

4. Description of Measurements of Success (15 Points)

• Describe what mechanisms you will develop, in partnership with the One-Stop delivery system, to track your success in achieving promised goals and outcomes.

• Describe any other methods you will use for evaluating your project's success.

Rating Criteria

• Does this applicant reflect an understanding of what it would need to do in order to track progress and success?

Part VII. Review Process of the Evaluation Criteria

The technical review panel will make careful evaluation of applications against the criteria. The review panel recommendations are advisory. The ETA grant officer will fully consider the panel recommendations and take into account geographic balance to ensure the most advantageous award of these funds to accomplish the system-building purposes outlined in the Summary and Statement of Work. The grant officer may consider any information that comes to his or her attention. The grant officer reserves the right to award without negotiation.

Part VIII. Reporting

Grantees will be required to submit quarterly financial and narrative progress reports. Financial reporting will be required quarterly using the on-line electronic reporting system for the Standard Form 269-Financial Status Report (FSR). A narrative progress report will be required quarterly.

Part IX. Resources for the Applicant

The Department of Labor maintains a number of web-based resources that may be of assistance to applicants. The Web page for the Department's Center for Faith-Based & Community Initiatives (http://www.dol.gov/cfbci) is a valuable source of background on this initiative. America's Service Locator (www.servicelocator.org) provides a directory of our nation's One-Stop Career Centers. The National Association of Workforce Boards maintains a Web page (www.nawb.org/asp/wibdir.asp), which contains contact information for the State and local Workforce Investment boards. Applicants are encouraged to review “Understanding the Department of Labor Solicitation for Grant Applications and How to Write an Effective Proposal” (http://www/dol.gov/cfbci/sgabrochure.htm). “Questions and Answers” regarding this solicitation will be posted and updated on the Web (www.doleta.gov/usworkforce). For a basic understanding of the grants process and basic responsibilities of receiving Federal grant support, please see “Guidance for Faith-Based and Community Organizations on Partnering with the Federal Government (www.fbci.gov).

Signed in Washington, DC, this 1st day of April, 2003.
James W. Stockton,
Grant Officer.

Attachments:

Appendix A—SF-424

Appendix B—Budget Form

Appendix C—Survey of Ensuring Equal Opportunity for Applicants

BILLING CODE 4510-30-P

[FR Doc. 03-8227 Filed 4-3-03; 8:45 am]

BILLING CODE 4510-30-C